DEPARTMENT OF VETERANS AFFAIRS

[OMB Control No. 2900-0085]

Agency Information Collection Activities Under OMB Review

AGENCY: Board of Veterans' Appeal, Department of Veterans Affairs

ACTION: Notice.

SUMMARY: In compliance with the Paperwork Reduction Act (PRA) of 1995 (44 U.S.C. 3501-3521), this notice announces that the Board of Veterans' Appeal (BVA), Department of Veterans Affairs, has submitted the collection of information abstracted below to the Office of Management and Budget (OMB) for review and comment. The PRA submission describes the nature of the information collection and its expected cost and burden; it includes the actual data collection instrument.

DATES: Comments must be submitted on or before August 22, 2005.

FOR FURTHER INFORMATION CONTACT: Denise McLamb, Records Management Service (005E3), Department of Veterans Affairs, 810 Vermont Avenue, NW., Washington, DC 20420, (202) 273-8030, Fax (202) 273-5981 or e-mail: denise.mclamb@mail.va.gov. Please refer to “OMB Control No. 2900-0085.”

Send comments and recommendations concerning any aspect of the information collection to VA's OMB Desk Officer, OMB Human Resources and Housing Branch, New Executive Office Building, Room 10235, Washington, DC 20503 (202) 395-7316. Please refer to “OMB Control No. 2900-0085” in any correspondence.

SUPPLEMENTARY INFORMATION: Titles:

a. Appeal to Board of Veterans' Appeals, VA Form 9.

b. Withdrawal of Services by a Representative.

c. Filing of Representative's Fee Agreements and Motions for Review of Such Agreements.

d. Motion for Review of Representative's Charges for Expenses.

e. Request for Changes in Hearing Date.

f. Motion for Reconsideration.

OMB Control Number: 2900-0085.

Type of Review: Extension of a currently approved collection.

Abstract:

a. Appeal to Board of Veterans' Appeals, VA Form 9, may be used by appellants to complete their appeal to the Board of Veterans' Appeals (BVA) from a denial of VA benefits. The information is used by BVA to identify the issues in dispute and prepare a decision responsive to the appellant's contentions and the legal and factual issues raised.

b. Withdrawal of Services by a Representative: When the appellant's representative withdraws from a case, both the appellant and the BVA must be informed so that the appellant's rights may be adequately protected and so that the BVA may meet its statutory obligations to provide notice to the current representative.

c. Filing of Representative's Fee Agreements and Motions for Review of Such Agreements: Agreements for fees charged by individuals or organizations for representing claimants and appellants before VA are filed with, and reviewed by, the Board of Veterans' Appeals. The information is used to determine whether such fees are excessive or unreasonable.

d. Motion for Review of Representative's Charges for Expenses: Expense reimbursements claimed by individuals and organizations for representing claimants and appellants before VA have been monitored for fairness for many years. The information is used to review changes by claimants' representatives for expenses to afford protection to such claimants from overreaching by unscrupulous representatives and is useful in monitoring fees charged by representatives and to ensure that fee limitations are not avoided by mischaracterizing fees as expenses.

e. Request for Changes in Hearing Date: VA provides hearings to appellants and their representatives, as required by basic Constitutional due-process and by Title 38 U.S.C. 7107(b). From time to time, hearing dates and/or times are changed, hearing requests withdrawn and new hearings requested after failure to appear at a scheduled hearing. The information is used to comply with the appellants' or their representatives' requests.

f. Motion for Reconsideration: Decisions by BVA are final unless the Chairman orders reconsideration of the decision either on the Chairman's initiative, or upon motion of a claimant. The Board Chairman, or his designee, uses the information provided in deciding whether reconsideration of a Board decision should be granted.

An agency may not conduct or sponsor, and a person is not required to respond to a collection of information unless it displays a currently valid OMB control number. The Federal Register Notice with a 60-day comment period soliciting comments on this collection of information was published on March 18, 2005 at pages 13235-13236.

Affected Public: Individuals or households, Business or other for profit, and Not for profit institutions.

Estimated Total Annual Burden:

a. Appeal to Board of Veterans' Appeals, VA Form 9—49,700 hours.

b. Withdrawal of Services by a Representative—183 hours.

c. Filing of Representative's Fee Agreements and Motions for Review of Such Agreements—207 hours.

d. Motion for Review of Representative's Charges for Expenses—4 hours.

e. Request for Changes in Hearing Date—946 hours.

f. Motion for Reconsideration—859 hours.

Estimated Average Burden Per Respondent:

a. Appeal to Board of Veterans' Appeals, VA Form 9—1 hour.

b. Withdrawal of Services by a Representative—20 minutes.

c. Filing of Representative's Fee Agreements and Motions for Review of Such Agreements—10 minutes (basic filing), 1 hour (contract modifications),—2 hours (filing motion or response).

d. Motion for Review of Representative's Charges for Expenses—4 hours (2 hours for motion and 2 hours for response to motion).

e. Request for Changes in Hearing Date—15 minutes (hearing date change), 15 minutes (request to withdraw a hearing),—1 hour (requests change a motion).

f. Motion for Reconsideration—1 hour.

Frequency of Response: On occasion.

Estimated Total Number of Respondents:

a. Appeal to Board of Veterans' Appeals, VA Form 9—49,700.

b. Withdrawal of Services by a Representative—550.

c. Filing of Representative's Fee Agreements and Motions for Review of Such Agreements—937.

d. Motion for Review of Representative's Charges for Expenses—2.

e. Request for Changes in Hearing Date—1,716.

f. Motion for Reconsideration—859.

Dated: July 13, 2005.
By direction of the Secretary.
Denise McLamb,
Program Analyst, Records Management Service.

[FR Doc. 05-14543 Filed 7-21-05; 8:45 am]

BILLING CODE 8320-01-P